DEPARTMENT OF LABOR

Office of the Secretary Submission for OMB Review: Comment Request

ACTION: Submission for OMB Review: Comment Request.

SUMMARY: The Department of Labor (DOL) hereby announces the submission of the following public information collection requests (ICR) to the Office of Management and Budget (OMB) for review and approval in accordance with the Paperwork Reduction Act of 1995 (Pub. L. 104-13, 44 U.S.C. chapter 35). A copy of each ICR, with applicable supporting documentation; including, among other things, a description of the likely respondents, proposed frequency of response, and estimated total burden may be obtained from the RegInfo.gov Web site at http://www.reginfo.gov/public/do/PRAMain or by contacting Linda Watts Thomas on 202-693-2443 (this is not a toll-free number)/e-mail: DOL_PRA_PUBLIC@dol.gov.

Interested parties are encouraged to send comments to the Office of Information and Regulatory Affairs, Attn: OMB Desk Officer for the Department of Labor—Occupational Safety and Health Administration (OSHA), Office of Management and Budget, Room 10235, Washington, DC 20503, Telephone: 202-395-7316/Fax: 202-395-5806 (these are not toll-free numbers), E-mail: OIRA_submission@omb.eop.gov within 30 days from the date of this publication in the Federal Register. In order to ensure the appropriate consideration, comments should reference the OMB Control Number (see below).

The OMB is particularly interested in comments which:

• Evaluate whether the proposed information collection requirements are necessary for the proper performance of the Agency, including whether the information will have practical utility;

• Evaluate the accuracy of the Agency's estimate of the burden of the proposed collection of information, including the validity of the methodology and assumptions used;

• Enhance the quality, utility, and clarity of the information to be collected; and

• Minimize the burden of the collections of information on those who are to respond including through the use of appropriate automated, electronic, mechanical, or other technological collection techniques or other forms of information technology, e.g., permitting electronic submission of responses.

Agency: Occupational Safety and Health Administration.

Type of Review: Extension without change of a previously approved collection.

Title of Collection: Aerial Lifts (29 CFR 1926.253).

OMB Control Number: 1218-0216.

Affected Public: Business or other for-profits.

Estimated Number of Respondents: 62.

Estimated Total Annual Burden Hours: 6.

Estimated Total Annual Costs Burden (excludes hourly wage costs): $0.

Description: The certification requirement specified in the Aerial Lifts Standard demonstrates that the manufacturer or an equally-qualified entity has assessed a modified aerial lift and found that it was safe for use by workers. For additional information, see the related 60-day preclearance notice published in the Federal Register on February 24, 2010, (Vol. 75, page 8406). PRA documentation prepared in association with the preclearance notice is available on http://www.regulations.gov under docket number OSHA-2009-0045.

Agency: Occupational Safety and Health Administration.

Type of Review: Extension without change of a previously approved collection.

Title of Collection: Peer Review, Conflict of Interest (COI) and Disclosure Form.

OMB Control Number: 1218-0255.

Affected Public: Individuals or households.

Estimated Number of Respondents: 36.

Estimated Total Annual Burden Hours: 27.

Estimated Total Annual Costs Burden (excludes hourly wage costs): $0.

Description: The Occupational Safety and Health Administration conducts peer reviews to review a draft product for quality by specialists in the field who were not involved in producing the draft. The selection of participants in a peer review is based on expertise, with due consideration of independence. The Office of Management and Budget published the Final Information Quality Bulletin for Peer Review on December 15, 2004. The Bulletin states “ * * * the agency must address reviewers' potential conflicts of interest (including those stemming from ties to regulated businesses and other stakeholders) and independence from the agency.”

The Bulletin requires agencies to adopt or adapt the committee selection policies employed by the National Academy of Sciences (NAS) when selecting peer reviewers who are not government employees. To fulfill this requirement OSHA has developed a Conflict of Interest and Disclosure Form, based on NAS, Conflict of Interest Disclosure form. This form will be used to determine whether or not a conflict exists for a potential peer review panel member. For additional information, see the related 60-day preclearance notice published in the Federal Register on February 8, 2010 (Vol. 75, page 7522). PRA documentation prepared in association with the preclearance notice is available on http://www.regulations.gov under docket number OSHA-2009-0042.

Dated: July 8, 2010.
Linda Watts Thomas,
Acting Departmental Clearance Officer.

[FR Doc. 2010-18574 Filed 7-28-10; 8:45 am]

BILLING CODE 4410-26-P